DEPARTMENT OF HOUSING AND URBAN DEVELOPMENT

[Docket No. FR-4567-N-03]

Notice of Proposed Information Collection: Comment Request; Schedule of Pooled Mortgages

AGENCY: Office of the President of the Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comments Due Date: February 26, 2001.

ADDRESSES: Interested persons are invited to submit comments regarding this proposal. Comments should refer to the proposal by name and/or OMB Control Number and should be sent to: Sonya Suarez, Government National Mortgage Association, Office of Policy, Planning and Risk Management, Department of Housing & Urban Development, 451-7th Street, SW., Room 6226, Washington, DC 20410.

FOR FURTHER INFORMATION CONTACT: Sonya Suarez, Ginnie Mae, (202) 708-2772 (this is not a toll-free number), for copies of the proposed forms and other available documents.

SUPPLEMENTARY INFORMATION: The Department will submit the proposed information collection to OMB for review, as required by the Paperwork Reduction Act of 1995 (44 U.S.C. Chapter 35, as amended).

Through this Notice, the Department is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including the use of appropriate automated collection techniques or other forms of information technology, e.g., permitting electronic submission of responses.

This Notice also lists the following information:

Title of Proposal: Schedule of Pooled Mortgages.

OMB Control Number, if applicable: 2503-0010.

Description of the need for the information and proposed use: This form identifies the mortgages that collateralize the designed MBS pools or loan packages. It also provides a certification from the document custodian that certain required mortgage documents are being held by the document custodian on behalf of Ginnie Mae.

Agency form numbers, if applicable: HUD Form 11706.

Members of affected public: For-profit business (mortgage industry trade associations, securities companies, accounting firms, law firms, service providers, etc.)

Estimation of the total numbers of hours needed to prepare the information collection including number of respondents, frequency of response, and hours of response:

Estimation of total number of hours needed to prepare the information collection is based on the number of respondents multiplied by the frequency of responses:

(1) 650 respondents × 49 responses = 31,540 total annual responses, and Total annual responses multiplied by the amount of time it takes to complete the form.

(2) 31,540 × .25 hours/response = 7,885 annual burden hours.

Status of the proposed information collection: This is a reinstatement, with change, of a previously approved collection for which approval has expired.

Authority: Sec. 3506 of the Paperwork Reduction Act of 1995, 44 U.S.C. Chapter 35, as amended.

Dated: December 18, 2000.
George S. Anderson,
Executive Vice President, Ginnie Mae.

[FR Doc. 00-32907 Filed 12-26-00; 8:45 am]

BILLING CODE 4210-01-M